FEDERAL MARITIME COMMISSION

Ocean Transportation Intermediary License Applicant

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, D.C. 20573.

Non-Vessel Operating Common Carrier Ocean Transportation Intermediary Applicants

Celtic Shipping Line, LLC, 190 Middlesex Turnpike, Suite 203, Iselin, NJ 08830, Officers: Kevin William Shields, President (Qualifying Individual), Kenneth Demitus, Vice President

Sonic Container Line, Inc., 870 Sivert Drive, Wood Dale, IL 60191, Officers: Chih Cheng Hsiao, Manager (Qualifying Individual), Maria Chen, Manager.

Non-Vessel Operating Common Carrier and Ocean Freight Forwarder Transportation Intermediary Applicants

D.L. Central America, Inc., 3500 NW 115 Avenue, Miami, FL 33178, Officers: Sandra Calveiro, Ocean Dept. Coordinator (Qualifying Individual), Alfredo De Leon, Vice President

Pegasus Maritime Inc., 7 Dey Street, Suite 1000A, New York, NY 10002, Officers: Alvaro William Marrero, CEO (Qualifying Individual), Tariq Mahmood, Chairman.

Ocean Freight Forwarders—Ocean Transportation Intermediary Applicants

U C Bridge Inc. d/b/a Rapid Freight International Inc., 210 West Walnut Street, Suite #A, Compton, CA 90220, Officer: Julie Zhu, President (Qualifying Individual)

Dated: September 1, 2000.
Bryant L. VanBrakle,
Secretary.

[FR Doc. 00-23008 Filed 9-6-00; 8:45 am]

BILLING CODE 6730-01-P